DEPARTMENT OF COMMERCE

International Trade Administration

[A-357-812]

Notice of Extension of Time Limit for Final Results of Antidumping Duty New Shipper Review: Honey from Argentina

AGENCY: Import Administration, International Trade Administration, Department of Commerce.

EFFECTIVE DATE: January 31, 2007.

FOR FURTHER INFORMATION CONTACT: David Cordell or Robert James, AD/CVD Operations, Office 7, Import Administration, International Trade Administration, U.S. Department of Commerce, 14th Street and Constitution Avenue, NW, Washington, DC 20230; telephone: (202) 482-0408 or (202) 482-0469, respectively.

On November 24, 2006, the Department of Commerce (the Department) published the preliminary results of the new shipper review of the antidumping duty order on honey from Argentina, covering the period December 1, 2004, through December 31, 2005, and the following exporter: Patagonik S.A. See Honey From Argentina: Preliminary Results of New Shipper Review, 71 FR 67850 (November 24, 2006). On December 15, 2006, the Federal Register published a correction notice due to typographical errors in the original preliminary results notice. See Corrections Honey From Argentina: Preliminary Results of New Shipper Review, 71 FR 75614 (December 15, 2006). The final results are currently due on February 14, 2007.¹

¹ The November 24, 2006, Federal Register Notice stated the Department would issue final results within 120 days of publication of the Preliminary Results. The Notice should have read that the Department will issue the final results within 90 days after the date on which the preliminary results were issued. See 19 CFR 351.214(i)(1). The Department hereby corrects this inadvertent error.

SUPPLEMENTARY INFORMATION:

Extension of Time Limits for Final Results

Section 751(a)(2)(B)(iv) of the Tariff Act of 1930, as amended (the Act), and 19 CFR 351.214(i)(1) require the Department to issue the final results of a new shipper review within 90 days after the date on which the preliminary results were issued. The Department may, however, extend the deadline for completion of the final results of a new shipper review to 150 days if it determines that the case is extraordinarily complicated. See section 751(a)(2)(B)(iv) of the Act and 19 CFR 351.214(i)(2).

As a result of extraordinarily complicated issues raised in the review segment, specifically the multiple issues raised by petitioner with regard to the bona fide nature of the sale as well as issues regarding the beekeepers' costs, it is not practicable to complete this new shipper review within the current time limit. Accordingly, the Department is extending the time limit for the completion of the final results by 60 days until April 15, 2007, in accordance with section 751(a)(2)(B)(iv) of the Act and 19 CFR 351.214(i)(2). Because April 15 falls on a Sunday, the deadline for the completion of the final results is April 16, 2007, the next business day.

This notice is issued and published in accordance with section 751(a)(2)(B) of the Act.

Dated: January 23, 2007.
Stephen J. Claeys,
Deputy Assistant Secretary for Import Administration.

[FR Doc. E7-1461 Filed 1-30-07; 8:45 am]

BILLING CODE 3510-DS-S